DEPARTMENT OF AGRICULTURE

Food and Nutrition Service

7 CFR Parts 210, 220, and 226

[FNS-2019-0005]

RIN 0584-AE65

Delayed Implementation of Grains Ounce Equivalents in the Child and Adult Care Food Program

AGENCY: Food and Nutrition Service (FNS), USDA.

ACTION: Correcting amendments.

SUMMARY: On September 25, 2019, the Food and Nutrition Service published meal pattern tables in Agency rules. This document corrects the presentation of tables in the final rule.

DATES: Effective Date: February 12, 2020.

FOR FURTHER INFORMATION CONTACT: Andrea Farmer, 703-305-2590, andrea.farmer@usda.gov.

SUPPLEMENTARY INFORMATION: The Food and Nutrition Service published a final rule, Delayed Implementation of Grains Ounce Equivalents in the Child and Adult Care Food Program, in the Federal Register at 84 FR 50287, on September 25, 2019. The final rule included tables presenting meal pattern requirements for the service of meals to infants in the Child and Adult Care Food Program, National School Lunch Program, and School Breakfast Program. However, the published meal pattern tables did not clearly present the information meal planners need to determine which meal components are required and how much of a food item contributes to a reimbursable meal for infants 6 through 11 months. For ease of readers, this document displays the infant meal pattern tables at 7 CFR 210.10(o)(4)(ii), 210.10(q)(2), 220.8(p)(2), and 226.20(b)(5). This document also displays the preschool snack meal pattern table at 7 CFR 210.10(o)(3)(ii).

List of Subjects

7 CFR Part 210

National School Lunch Program, Meal requirements for lunches and requirements for afterschool snacks.

7 CFR Part 220

School Breakfast Program, Meal requirements for breakfasts.

7 CFR Part 226

Child and Adult Care Food Program, Requirements for meals.

Accordingly, 7 CFR parts 210, 220, and 226 are corrected by making the following correcting amendments:

PART 210—NATIONAL SCHOOL LUNCH PROGRAM

1. The authority citation for part 210 continues to read as follows:

Authority: 42 U.S.C. 1751-1760, 1779.

2. In § 210.10, revise the meal pattern tables in paragraphs (o)(3)(ii), (o)(4)(ii), and (q)(2) to read as follows:

§ 210.10 Meal requirements for lunches and requirements for afterschool snacks.

* * * * *

(o) * * *

(3) * * *

(ii) Preschooler snack meal pattern table. The minimum amounts of food components to be served at snack are as follows:

Preschool Snack Meal Pattern
Food components and food items ¹ | Minimum quantities: Ages 1-2 | Minimum quantities: Ages 3-5
Fluid Milk ² | 4 fluid ounces | 4 fluid ounces.
Meat/Meat Alternates (edible portion as served):
Lean meat, poultry, or fish | ½ ounce | ½ ounce.
Tofu, soy products, or alternate protein products ³ | ½ ounce | ½ ounce.
Cheese | ½ ounce | ½ ounce.
Large egg | ½ | ½.
Cooked dry beans or peas | ⅛ cup | ⅛ cup.
Peanut butter or soy nut butter or other nut or seed butters | 1 tablespoon | 1 tablespoon.
Yogurt, plain or flavored unsweetened or sweetened ⁴ | 2 ounces or ¼ cup | 2 ounces or ¼ cup.
Peanuts, soy nuts, tree nuts, or seeds | ½ ounce | ½ ounce.
Vegetables ⁵ | ½ cup | ½ cup.
Fruits ⁵ | ½ cup | ½ cup.
Grains (ounce equivalent): 6 7
Whole grain-rich or enriched bread | ½ slice | ½ slice.
Whole grain-rich or enriched bread product, such as biscuit, roll, or muffin | ½ serving | ½ serving.
Whole grain-rich, enriched, or fortified cooked breakfast cereal,⁸ cereal grain, and/or pasta | ¼ cup | ¼ cup.
Whole grain-rich, enriched, or fortified ready-to-eat cereal (dry, cold) ⁸
Flakes or rounds | ½ cup | ½ cup.
Puffed cereal | ¾ cup | ¾ cup.
Granola | ⅛ cup | ⅛ cup.
Endnotes:
¹ Select two of the five components for a reimbursable snack. Only one of the two components may be a beverage.
² Must be unflavored whole milk for children age one. Must be unflavored low-fat (1 percent) or unflavored fat-free (skim) milk for children two through five years old.
³ Alternate protein products must meet the requirements in Appendix A to Part 226 of this chapter.
⁴ Yogurt must contain no more than 23 grams of total sugars per 6 ounces.
⁵ Pasteurized full-strength juice may only be used to meet the vegetable or fruit requirement at one meal, including snack, per day.
⁶ At least one serving per day, across all eating occasions, must be whole grain-rich. Grain-based desserts do not count towards meeting the grains requirement.
⁷ Beginning October 1, 2021, ounce equivalents are used to determine the quantity of creditable grains.
⁸ Breakfast cereals must contain no more than 6 grams of sugar per dry ounce (no more than 21.2 grams sucrose and other sugars per 100 grams of dry cereal).

(4) * * *

(ii) Infant snack meal pattern table. The minimum amounts of food components to be served at snack are as follows:

Infant Snack Meal Pattern
Age birth through 5 months | Age 6 through 11 months
4-6 fluid ounces breastmilk ¹ or formula ² | 2-4 fluid ounces breastmilk ¹ or formula; ² and 0-½ slice bread; 3 4 or 0-2 crackers; 3 4 or 0-4 tablespoons infant cereal 2 4 or ready-to-eat breakfast cereal; 3 4 5 6 and 0-2 tablespoons vegetable or fruit, or a combination of both. 6 7
Endnotes:
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ A serving of grains must be whole grain-rich, enriched meal, or enriched flour.
⁴ Beginning October 1, 2021, ounce equivalents are used to determine the quantity of creditable grains.
⁵ Breakfast cereals must contain no more than 6 grams of sugar per dry ounce (no more than 21.2 grams sucrose and other sugars per 100 grams of dry cereal).
⁶ A serving of this component is required when the infant is developmentally ready to accept it.
⁷ Fruit and vegetable juices must not be served.

* * * * *

(q) * * *

(2) Infant lunch meal pattern table. The minimum amounts of food components to be served at lunch are as follows:

Infant Lunch Meal Pattern
Age birth through 5 months | Age 6 through 11 months
4-6 fluid ounces breastmilk ¹ or formula ² | 6-8 fluid ounces breastmilk ¹ or formula; ² and 0-4 tablespoons infant cereal, 2 3 meat, fish, poultry, whole egg, cooked dry beans, or cooked dry peas; or 0-2 ounces of cheese; or 0-4 ounces (volume) of cottage cheese; or 0-4 ounces or ½ cup of yogurt; ⁴ or a combination of the above; ⁵ and 0-2 tablespoons vegetable or fruit, or a combination of both.5 6
Endnotes:
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Beginning October 1, 2021, ounce equivalents are used to determine the quantity of creditable grains.
⁴ Yogurt must contain no more than 23 grams of total sugars per 6 ounces.
⁵ A serving of this component is required when the infant is developmentally ready to accept it.
⁶ Fruit and vegetable juices must not be served.

PART 220—SCHOOL BREAKFAST PROGRAM

3. The authority citation for part 220 continues to read as follows:

Authority: 42 U.S.C. 1773, 1779, unless otherwise noted.

4. In § 220.8, revise the meal pattern table in paragraph (p)(2) to read as follows:

§ 220.8 Meal requirements for breakfasts.

* * * * *

(p) * * *

(2) Infant breakfast meal pattern table. The minimum amounts of food components to be served at breakfast are as follows:

Infant Breakfast Meal Pattern
Age birth through 5 months | Age 6 through 11 months
4-6 fluid ounces breastmilk ¹ or formula ² | 6-8 fluid ounces breastmilk ¹ or formula; ² and 0-4 tablespoons infant cereal,2 3 meat, fish, poultry, whole egg, cooked dry beans, or cooked dry peas; or 0-2 ounces of cheese; or 0-4 ounces (volume) of cottage cheese; or 0-4 ounces or ½ cup of yogurt; ⁴ or a combination of the above; ⁵ and 0-2 tablespoons vegetable or fruit, or a combination of both 5 6
Endnotes:
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Beginning October 1, 2021, ounce equivalents are used to determine the quantity of creditable grains.
⁴ Yogurt must contain no more than 23 grams of total sugars per 6 ounces.
⁵ A serving of this component is required when the infant is developmentally ready to accept it.
⁶ Fruit and vegetable juices must not be served.

PART 226—CHILD AND ADULT CARE FOOD PROGRAM

5. The authority citation for 7 CFR part 226 continues to read as follows:

Authority: Secs. 9, 11, 14, 16, and 17, Richard B. Russell National School Lunch Act, as amended, 42 U.S.C. 1758, 1759a, 1762a, 1765 and 1766.

6. In § 226.20, revise the meal pattern table in paragraph (b)(5) to read as follows:

§ 226.20 Requirements for meals.

* * * * *

(b) * * *

(5) Infant meal pattern table. The minimum amounts of food components to serve to infants, as described in paragraph (b)(4) of this section, are:

Infant Meal Patterns
Infants | Age birth through 5 months | Age 6 through 11 months
Breakfast, Lunch, or Supper | 4-6 fluid ounces breastmilk ¹ or formula ² | 6-8 fluid ounces breastmilk ¹ or formula; ² and 0-4 tablespoons infant cereal,2 3 meat, fish, poultry, whole egg, cooked dry beans, or cooked dry peas; or 0-2 ounces of cheese; or 0-4 ounces (volume) of cottage cheese; or 0-4 ounces or ½ cup of yogurt; ⁴ or a combination of the above; ⁵ and 0-2 tablespoons vegetable or fruit, or a combination of both.5 6
Snack | 4-6 fluid ounces breastmilk ¹ or formula ² | 2-4 fluid ounces breastmilk ¹ or formula; ² and 0-½ slice bread; 3 7 or 0-2 crackers; 3 7 or 0-4 tablespoons infant cereal 2 3 or ready-to-eat breakfast cereal; 3 5 7 8 and 0-2 tablespoons vegetable or fruit, or a combination of both. 5 6
Endnotes:
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Beginning October 1, 2021, ounce equivalents are used to determine the quantity of creditable grains.
⁴ Yogurt must contain no more than 23 grams of total sugars per 6 ounces.
⁵ A serving of this component is required when the infant is developmentally ready to accept it.
⁶ Fruit and vegetable juices must not be served.
⁷ A serving of grains must be whole grain-rich, enriched meal, or enriched flour.
⁸ Breakfast cereals must contain no more than 6 grams of sugar per dry ounce (no more than 21.2 grams sucrose and other sugars per 100 grams of dry cereal).

* * * * *

Dated: January 14, 2020.
Pamilyn Miller,
Administrator, Food and Nutrition Service.

[FR Doc. 2020-02245 Filed 2-11-20; 8:45 am]

BILLING CODE 3410-30-P